DEPARTMENT OF COMMERCE

International Trade Administration

[A-580-874]

Certain Steel Nails From the Republic of Korea: Preliminary Results of Antidumping Duty Administrative Review and Partial Rescission of Antidumping Duty Administrative Review; 2014-2016

AGENCY: Enforcement and Compliance, International Trade Administration, Department of Commerce.

SUMMARY: The Department of Commerce (the Department) is conducting an administrative review of the antidumping duty order on certain steel nails (steel nails) from the Republic of Korea (Korea). The period of review (POR) is December 29, 2014, through June 30, 2016. This administrative review covers three exporters of the subject merchandise, including two mandatory respondents, Daejin Steel Co. (Daejin) and Korea Wire Co., Ltd. (Kowire). The Department preliminarily determines Daejin sold subject merchandise at less than normal value during the POR and that Kowire did not. The Department is rescinding this administrative review, in part, with respect to 208 companies, based on the timely withdrawal of Mid Continent Steel & Wire, Inc.'s (the petitioner) request for administrative review. Interested parties are invited to comment on these preliminary results.

DATES: Applicable August 7, 2017.

FOR FURTHER INFORMATION CONTACT: Robert Galantucci or Trisha Tran, AD/CVD Operations, Office IV, Enforcement and Compliance, International Trade Administration, U.S. Department of Commerce, 1401 Constitution Avenue NW., Washington, DC 20230; telephone: (202) 482-2923 or (202) 482-4852, respectively.

SUPPLEMENTARY INFORMATION:

Background

On July 5, 2016, the Department notified interested parties of the opportunity to request an administrative review of orders, findings, or suspended investigations with anniversaries in July 2016, including the antidumping duty (AD) order on steel nails from Korea.¹ The Department received timely requests from Je-il Wire Production Co., Ltd. (Je-il),² Daejin,³ Kowire,⁴ and the petitioner ⁵ to conduct an administrative review of certain exporters during the POR. On September 12, 2016, the Department published a notice initiating an AD administrative review of steel nails from Korea covering 211 companies for the POR.⁶

¹ See Antidumping or Countervailing Duty Order, Finding, or Suspended Investigation; Opportunity to Request Administrative Review, 81 FR 43584 (July 5, 2016).

² See Letter from Je-il, “Certain Steel Nails from the Republic of Korea: Request for Administrative Review,” dated July 22, 2016.

³ See Letter from Daejin, “Certain Steel Nails from the Republic of Korea: Request for Administrative Review,” dated July 28, 2016.

⁴ See Letter from Kowire, “Steel Nails from the Republic of Korea: Request for Administrative Review,” dated July 29, 2016.

⁵ See Letter from the petitioner, “Certain Steel Nails from the Republic of Korea: Request for Administrative Reviews,” dated August 1, 2016.

⁶ See Initiation of Antidumping and Countervailing Duty Administrative Reviews, 81 FR 62720 (September 12, 2016) (Initiation Notice).

In the Initiation Notice, the Department indicated that, in the event that we limited the respondents selected for individual examination in accordance with section 777A(c)(2) of the Tariff Act of 1930, as amended (the Act), we would select mandatory respondents for individual examination based on U.S. Customers and Border Protection (CBP) entry data.⁷ On November 7, 2016, after considering the large number of potential producers/exporters involved in this administrative review, and the resources available to the Department, we determined that it was not practicable to examine all exporters/producers of subject merchandise for which a review was requested.⁸ As a result, pursuant to section 777A(c)(2)(B) of the Act, we determined that we could reasonably individually examine only the two largest producers/exporters of steel nails from Korea by U.S. entry volume during the POR (i.e., Daejin and Kowire).⁹ Accordingly, we issued the AD questionnaire to Daejin and Kowire, the two companies selected as mandatory respondents.¹⁰ On December 12, 2016, the petitioner timely withdrew its request for administrative review pursuant to 19 CFR 351.213(d)(1) of all previously-identified producers and exporters of steel nails from Korea except for Je-il, Daejin, and Kowire.¹¹

⁷ Id.

⁸ See Memorandum, “Antidumping Duty Administrative Review of Certain Steel Nails from the Republic of Korea: Respondent Selection,” dated November 7, 2016 (Respondent Selection Memorandum).

⁹ See Respondent Selection Memorandum.

¹⁰ See Department Letter, “Administrative Review of Certain Steel Nails from Korea: Antidumping Duty Questionnaire,” dated November 8, 2016.

¹¹ See Letter from the petitioner, “Certain Steel Nails from the Republic of Korea: Withdrawal of Request for Administrative Review,” dated December 12, 2016.

Partial Rescission of Administrative Review

The Department received timely requests to conduct an administrative review of certain exporters covering the POR. Because the petitioner timely withdrew its requests for review of all of the companies listed in the Initiation Notice, with the exception of Daejin, Je-il, and Kowire, we are rescinding the administrative review with respect to the remaining 208 companies on which we initiated this review pursuant to 19 CFR 351.213(d)(1). For a list of the 208 companies for which we are rescinding this review, see Appendix II to this notice. Accordingly, the remaining three companies subject to the instant review are: Daejin, Je-il, and Kowire.

Scope of the Order

The merchandise covered by this order is certain steel nails having a nominal shaft length not exceeding 12 inches.¹² Merchandise covered by the order is currently classified under the Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to this order also may be classified under HTSUS subheadings 7907.00.60.00, 8206.00.00.00 or other HTSUS subheadings. While the HTSUS subheadings are provided for convenience and customs purposes, the written description of the scope of this order is dispositive. For a full description of the scope of the order, see the Preliminary Decision Memorandum.¹³

¹² The shaft length of certain steel nails with flat heads or parallel shoulders under the head shall be measured from under the head or shoulder to the tip of the point. The shaft length of all other certain steel nails shall be measured overall.

¹³ For a complete description of the scope of the products under review, see Memorandum, “Decision Memorandum for Preliminary Results of the 2014-2016 Antidumping Duty Administrative Review of Certain Steel Nails from the Republic of Korea,” dated concurrently with, and hereby adopted by this notice (Preliminary Decision Memorandum). The Preliminary Decision Memorandum is a public document and is on file electronically via Enforcement and Compliance's Antidumping and Countervailing Duty Centralized Electronic Service System (ACCESS). ACCESS is available to registered users at http://access.trade.gov and available to all parties in the Central Records Unit, Room B8024 of the main Department of Commerce building. In addition, a complete version of the Preliminary Decision Memorandum can be accessed directly on the Internet at http://enforcement.trade.gov/frn/. The signed and electronic versions of the Preliminary Decision Memorandum are identical in content.

Allegations of a Particular Market Situation

On June 8, 2017, the petitioner submitted a “particular market situation” allegation with respect to the production of steel nails in Korea.¹⁴ In light of the timing of the filing of this allegation, the Department did not have the opportunity to consider it for purposes of these preliminary results. We intend to issue our preliminary analysis of the PMS allegation so that parties will have an opportunity to comment prior to the issuance of the final results of this review.

¹⁴ See Letter from the petitioner, “Certain Steel Nails from Korea: Particular Market Situation Allegation,” dated June 8, 2017 (PMS Allegation).

Methodology

The Department is conducting this review in accordance with section 751(a) of the Act. Export price is calculated in accordance with section 772 of the Act. Normal value is calculated in accordance with section 773 of the Act.

For a full description of the methodology underlying our conclusions, see the Preliminary Decision Memorandum.¹⁵ A list of topics included in the Preliminary Decision Memorandum is included as an Appendix I to this notice.

¹⁵ See Preliminary Decision Memorandum.

Preliminary Results of Review

As a result of this review, we preliminarily determine the following weighted-average dumping margins for the period December 29, 2014 through June 30, 2016:

¹⁶ This rate is based on the rates for the respondents that were selected for individual review, excluding rates that are zero, de minimis or based entirely on facts available. See section 735(c)(5)(A) of the Act.

Exporter/producer | Weighted-average dumping margin (percent)
Daejin Steel Co | 2.14
Korea Wire Co., Ltd | * 0.16
Je-il Wire Production Co., Ltd | ¹⁶ 2.14
* (de minimis).

Assessment Rates

Upon completion of the administrative review, the Department shall determine, and CBP shall assess, antidumping duties on all appropriate entries. The Department intends to issue assessment instructions to CBP 15 days after the date of publication of the final results of this review.

For any individually examined respondents whose weighted-average dumping margin is above de minimis (i.e., 0.50 percent), we will calculate importer-specific ad valorem duty assessment rates based on the ratio of the total amount of dumping calculated for the importer's examined sales to the total entered value of those same sales in accordance with 19 CFR 351.212(b)(1).¹⁷ For entries of subject merchandise during the POR produced by each respondent for which it did not know its merchandise was destined for the United States, we will instruct CBP to liquidate un-reviewed entries at the all-others rate if there is no rate for the intermediate company involved in the transaction.¹⁸ We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties.

¹⁷ In these preliminary results, the Department applied the assessment rate calculation methodology adopted in Antidumping Proceedings: Calculation of the Weighted-Average Dumping Margin and Assessment Rate in Certain Antidumping Proceedings: Final Modification, 77 FR 8101 (February 14, 2012).

¹⁸ See Antidumping and Countervailing Duty Proceedings: Assessment of Antidumping Duties, 68 FR 23954 (May 6, 2003).

For the 208 companies for which this review is rescinded, antidumping duties will be assessed at rates equal to the cash deposit of estimated antidumping duties required at the time of entry, or withdrawn from warehouse, for consumption, in accordance with 19 CFR 351.212(c)(1)(i). The Department intends to issue appropriate assessment instructions directly to CBP 15 days after publication of this notice. The final results of this review shall be the basis for the assessment of antidumping duties on entries of merchandise covered by the final results of this review and for future deposits of estimated duties, where applicable.

Cash Deposit Requirement

The following deposit requirements will be effective upon publication of the notice of the final results of administrative review for all shipments of steel nails from Korea entered, or withdrawn from warehouse, for consumption on or after the date of publication of the final results of this administrative review, as provided by section 751(a)(2)(C) of the Act: (1) The cash deposit rate for the companies under review will be the rate established in the final results of this review (except, if the rate is zero or de minimis, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established for the most recently completed segment of the proceeding for the manufacturer of the merchandise; and (4) the cash deposit rate for all other manufacturers or exporters will continue to be 11.80 percent ad valorem, the all-others rate established in the less-than-fair value investigation.¹⁹

¹⁹ See Certain Steel Nails from the Republic of Korea: Final Determination of Sales at Less Than Fair Value, 80 FR 28955 (May 20, 2015).

Disclosure and Public Comment

The Department intends to disclose the calculations used in our analysis to interested parties in this review within five days of the date of publication of this notice in accordance with 19 CFR 351.224(b). Interested parties are invited to comment on the preliminary results of this review. Pursuant to 19 CFR 351.309(c)(1)(ii), interested parties may submit case briefs no later than 30 days after the date of publication of this notice. Rebuttal briefs, limited to issues raised in the case briefs, may be filed no later than five days after the time limit for filing case briefs.²⁰ Parties who submit case briefs or rebuttal briefs in this proceeding are requested to submit with each brief: (1) A statement of the issue, (2) a brief summary of the argument, and (3) a table of authorities.²¹ Executive summaries should be limited to five pages total, including footnotes.²² Case and rebuttal briefs should be filed using ACCESS.²³

²⁰ See 19 CFR 351.309(d)(1).

²¹ See 19 CFR 351.309(c)(2) and (d)(2).

²² Id.

²³ See 19 CFR 351.303.

Pursuant to 19 CFR 351.310(c), any interested party may request a hearing within 30 days of the publication of this notice in the Federal Register. If a hearing is requested, the Department will notify interested parties of the hearing schedule. Interested parties who wish to request a hearing, or to participate if one is requested, must submit a written request to the Assistant Secretary for Enforcement and Compliance, filed electronically via ACCESS within 30 days after the date of publication of this notice. Requests should contain: (1) The party's name, address, and telephone number; (2) the number of participants; and (3) a list of the issues to be discussed. Issues raised in the hearing will be limited to those raised in the respective case and rebuttal briefs.

We intend to issue the final results of this administrative review, including the results of our analysis of issues raised by the parties in the written comments, within 120 days of publication of these preliminary results in the Federal Register, unless otherwise extended.²⁴

²⁴ See section 751(a)(3)(A) of the Act.

Notification To Importers

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of double antidumping duties.

Notification To Interested Parties

We are issuing and publishing this notice in accordance with sections 751(a)(1) and 777(i)(1) of the Act and 19 CFR 351.221(b)(4).

Dated: July 31, 2017.
Gary Taverman,
Deputy Assistant Secretary, for Antidumping and Countervailing Duty Operations, performing the non-exclusive functions and duties of the Assistant Secretary for Enforcement and Compliance.

Appendix I

List of Topics Discussed in the Preliminary Decision Memorandum

I. Summary

II. Background

III. Scope of the Order

IV. Rescission In Part

V. Non-Selected Respondent Rate

VI. Affiliation

VII. Discussion of the Methodology

A. Determination of Comparison Method

B. Results of Differential Pricing Analysis

C. Product Comparisons

D. Date of Sale

E. Export Price

F. Normal Value

G. Currency Conversions

VIII. Recommendation

Appendix II

1. AOT Japan Ltd

2. ABF Freight International Private Ltd

3. ABN Fasteners Co. Ltd.

4. Ace Logistics Co., Ltd. (Tianjin Branch)

5. Air Sea Transport Inc.

6. Air Sea Worldwide Logistics Ltd.

7. Alpha Forwarding Co. Ltd.

8. Apex Maritime Co., Inc. (Dalian)

9. Apex Maritime Co. Ltd. (Korea)

10. Apex Maritime (Tianjin) Co., Ltd.

11. Astrotech Steels Private Limited

12. Baoding Jieboshun Trading Corp. Ltd.

13. Beijing Jin Heung Co. Ltd.

14. Beijing Kang Jie Kong Int'l Cargo Co. Ltd.

15. Beijing Qin Li Jeff Trading Co., Ltd.

16. Ben Line Agencies—Tianjin

17. Berry Clark & Co. Ltd.

18. Bipex Co., Ltd.

19. BK Fasteners Co.

20. Blu Logistics (China) Co., Ltd.

21. Bollore Logistics China Co., Ltd

22. Bolung International Trading Co., Ltd.

23. Bon Voyage Logistics Inc.

24. Brilliant Group Logistics Corp.

25. BYK Lines, Incorporated

26. C.H. Robinson Freight Services Ltd.

27. Caesar International Logistics Co. Ltd.

28. Cangzhou Xinqiao Int'l Trade Co. Ltd.

29. Capital Freight Management Inc.

30. Casia Global Logistics Co Ltd

31. Certified Products International Inc.

32. China Abrasives Industry

33. China Staple Enterprise (Tianjin) Co. Ltd

34. CJ Korea Express Co., Ltd.

35. CMS Logistics, Inc.

36. CN Worldwide International Freight

37. Concord Freight System Co., Ltd.

38. Consolidated Shipping Services L.L.C.

39. Cyber Express Corporation

40. D&F Material Products Ltd

41. DCS Dah Star Logistics Co., Ltd.

42. Dahnay Logistics Private Ltd.

43. Daijin Express Co., Ltd.

44. Dingzhou Derunda Material and Trade Co., Ltd.

45. Deugro Emirates Shipping Co.

46. Dezhou Hualude Hardware Products Co., Ltd.

47. Eco Steel Co., Ltd.

48. Duo-Fast Korea Co., Ltd.

49. Easylink Industrial Co., Ltd.

50. Family Express Company Limited

51. Ejem Brothers Limited

52. Euroline Global Co., Ltd.

53. G Link Express Logistics (Korea) Ltd

54. FG International Logistic Ltd

55. Foshan Sanden Enterprise Co., Ltd.

56. Grandlink Logistics Co., Ltd.

57. Global Container Line, Inc.

58. Goodgood Manufacturers

59. Hanbit Logistics Co., Ltd.

60. Grubville Enterprises Corporation

61. Han Duk Industrial Co., Ltd.

62. Hariharan Logistics

63. Hanjin Logistics India Private Ltd.

64. Hanmi Staple Co., Ltd.

65. Hecny Shipping Ltd.

66. Hebei Minmetals Co., Ltd.

67. Hecny Transportation Ltd.

68. High Link Line Inc.

69. Hellmann Worldwide Logistics Inc.

70. Hengtuo Metal Products Co Ltd

71. Huanghua Lianqing Hardware Products

72. Hongyi HK Hardware Products Co.

73. Honour Lane Logistics Sdn Bhd

74. Huanghua Yiqihe Imp. & Exp. Co, Ltd.

75. Huanghua Ruisheng Hardware Products

76. Huanghua Yingjin Hardware Products Co., Ltd.

77. I B International Co., Ltd.

78. Huasheng Yida Tianjin International Trading Co. Ltd.

79. Huazan Metal Wire Mesh Manufacture Co. Ltd.

80. International Maritime and Aviation LLC

81. Inmax Industries Sdn Bhd

82. Inno International

83. Jas Forwarding (Korea) Co. Ltd.

84. Ivk Manuport Logistics LLC

85. J Consol Line Co., Ltd.

86. Jiangsu Globe Logistics Co., Ltd.

87. Jail Tacker Co., Ltd.

88. Jinhai Hardware Co., Ltd.

89. Jinheung Steel Corporation

90. Jiaozuo Deled Hardware Manufacturing Co., Ltd.

91. Jinzhou Yihe Metal Products Co., Ltd.

92. Joo Sung Sea Air Co., Ltd.

93. Jinsco International Corp.

94. Kase Logistics International

95. Kasy Logistics (Tianjin) Co., Ltd.

96. K Logistics Corp. (Korea)

97. King Shipping Company

98. Kongo Special Nail Mfg. Co., Ltd.

99. King Freight International Corp.

100. Koram Steel Co., Ltd.

101. Laapraa Shipping Private Ltd.

102. Koram Inc.

103. Kyungjoo Sejung Corporation

104. Linyi Flying Arrow Imp. & Exp. Ltd.

105. Kuehne Nagel Ltd. (Tianjin Branch)

106. Linyi Double Moon Hardware Products Co., Ltd.

107. Mingguang Ruifeng Hardware Products Co., Ltd.

108. Liaocheng Minghui Hardware Products

109. Micasa Corporation Osaka Japan

110. Neo Gls

111. Liladhar Pasoo India Logistics Private Ltd.

112. Nanjing Caiqing Hardware Co., Ltd.

113. Ocean King Industries Limited

114. Nailtech Co. Ltd.

115. Nippon Seisen Co., Ltd.

116. Oman Fasteners LLC

117. Ningbo Port Southeast Logistics Group Co., Ltd.

118. OEC Logistics Co., Ltd.

119. Overseas Distribution Services Inc.

120. OEC Freight Worldwide Korea Co. Ltd.

121. Orient Express Container Co., Ltd.

122. Panalpina World Transport (PRC) Ltd.

123. On Time Worldwide Logistics Ltd.

124. Pacific Global Logistics Co., Ltd.

125. Prime Global Products Inc.

126. Overseas International Steel Industry

127. Peace Korea Co., Ltd.

128. Pudong Prime International Logistics, Inc.

129. Paslode Fasteners (Shanghai) Co. Ltd.

130. Promising Way (Hong Kong) Limited

131. Qingdao Golden Sunshine Metal Products Co., Ltd.

132. Prime Shipping International Inc.

133. Qingdao Gold-Dragon Co. Ltd.

134. Qingdao Mst Industry and Commerce Co., Ltd.

135. Qingdao D&L Group Ltd.

136. Qingdao Meijialucky Industry and Commerce Co., Ltd.

137. Ramses Logistics Company Limited

138. Qingdao Master Metal Products Co. Ltd.

139. Qingdao Uni-Trend International Limited

140. Romp Coil Nail Industries Inc.

141. Qingdao Tiger Hardware Co., Ltd.

142. Ricoh Logistics System Co., Ltd.

143. SDC International Australia PTY Ltd.

144. Regency Global Logistics (Shanghai) Co., Ltd.

145. Scanwell Container Line Ltd.

146. Sea Master Logistics Ltd.

147. Romp (Tianjin) Hardware Co. Ltd.

148. SDV Vietnam Co. Ltd.

149. Shandong Oriental Cherry Hardware Group

150. SDV PRC International Freight Forwarding Co. Ltd.

151. Shandong Liaocheng Minghua Metal PR

152. Shanghai Kaijun Logistics Co., Ltd.

153. Sejung (China) Sea & Air Co., Ltd.

154. Shanghai Jade Shuttle Hardware Tools Co., Ltd.

155. Shanxi Hairui Trade Co., Ltd.

156. Shanghai Curvet Hardware Products Co., Ltd.

157. Shanghai Pudong International Transportation

158. Shenzhen Syntrans International Logistics Co., Ltd.

159. Shanghai Pinnacle International Trading Co., Ltd.

160. Shanxi Tianli Industries Co., Ltd.

161. Sirius Global Logistics Co. Ltd.

162. Shanxi Pioneer Hardware Industry Co., Ltd.

163. Shipping Imperial Co., Ltd.

164. Suntec Industries Co., Ltd.

165. Shine International Transportation Ltd.

166. S-Mart (Tianjin) Technology Development Co., Ltd.

167. T.H.I. Group (Shanghai) Ltd.

168. Smart Logistics Co., Ltd.

169. Swift Freight (India) Pvt Ltd.

170. Tianjin Bluekin Industries Limited

171. Sunworld Industry Company Limited

172. The Stanley Works (Langfang) Fastening System Co., Ltd.

173. Tianjin Huixinshangmao Co. Ltd.

174. TCW Line Co., Ltd.

175. Tianjin Hongli Qiangsheng Imp. Exp.

176. Tianjin Juxiang Metal Products Co. Ltd.

177. Tianjin Coways Metal Products Co.

178. Tianjin Jinghai County Hongli Industry

179. Tianjin M&C Electronics Co., Ltd.

180. Tianjin Jinchi Metal Products Co., Ltd.

181. Tianjin Lituo Imp. Exp. Co. Ltd.

182. Tianjin Zhonglian Times Technology

183. Tianijn Lianda Group Co., Ltd.

184. Tianjin Zhonglian Metals Ware Co. Ltd.

185. Top Ocean Consolidated Service Ltd.

186. Tianjin Universal Machinery Imp. & Exp. Corp.

187. Top Ocean Korea Limited

188. Trans Wagon Int'l Co., Ltd.

189. Toll Global Forwarding (Beijing) Ltd.

190. Trans Knights, Inc.

191. United Nail Products Co., Ltd.

192. TP Steel Co. Ltd.

193. Unicorn (Tianjin) Fasteners Co., Ltd.

194. V-Line Shipping Co., Ltd.

195. Translink Shipping, Inc.

196. UPS SCS (China) Limited

197. Weifang United Laisee International Trade Co. Ltd.

198. Universal Sea & Air Co., Ltd.

199. Wah Shing Trading Flat RM G

200. Xuzhou CIP International Group Co. Ltd.

201. W&K Corporation Limited

202. Xinjiayuan Trading Co., Limited

203. You-One Fastening Systems

204. Xi'an Metals and Minerals Imp. Exp. Co.

205. Youngwoo Fasteners Co., Ltd.

206. Yicheng Logistics

207. Zhejiang Best Nail Industry Co., Ltd.

208. Zen Continental (Tianjin) Enterprises

[FR Doc. 2017-16551 Filed 8-4-17; 8:45 am]

BILLING CODE 3510-DS-P